ENVIRONMENTAL PROTECTION AGENCY

[ER-FRL-8992-9]

Environmental Impacts Statements; Notice of Availability

Responsible Agency: Office of Federal Activities, General Information (202) 564-1399 or http://www.epa.gov/compliance/nepa/.

Weekly receipt of Environmental Impact Statements filed 09/20/2010 through 09/24/2010 pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100386, Draft EIS, BLM, UT, Uinta Basin Natural Gas Development Project, To Develop Oil and Natural Gas Resources within the Monument Butte-Red Wash and West Tavaputs Exploration and Developments Area, Applications for Permit of Drill and Right-of-Way Grants, Uintah and Duchesne Counties, UT, Comment Period Ends: 11/15/2010, Contact: Mark Wimmer, 435-781-4464.

EIS No. 20100387, Draft EIS, USFS, OR, Three Trails Off-Highway Vehicle Project, Designated Off-Highway Vehicle (OHV) Trail System, Crescent Ranger District, Deschutes National Forest, Klamath County, OR, Comment Period Ends: 11/15/2010, Contact: Lilliam Cross, 541-433-3200.

EIS No. 20100388, Final EIS, BLM, OR, West Butte Wind Power Project, Construction and Operation of Access Roads and a Transmission Line, Application for Right-of-Way (ROW) Grant, Deschutes and Crook Counties, OR, Wait Period Ends: 11/01/2010, Contact: Steve Storo, 541-416-6700.

Amended Notices

EIS No. 20100308, Draft EIS, USFS, MN, South Fowl Lake Snowmobile Access Project, Proposing a Replacement Snowmobile Trail between McFarland Lake and South Fowl Lake, Gunflint Ranger District, Superior National Forest, Eatern Region, Cook County, MN, Comment Period Ends: 10/27/2010, Contact: Peter Taylor, 218-626-4368.

Revision to FR Notice published 08/13/2010. Extending Comment from 09/27/2010 to 10/27/2010.

EIS No. 20100380, Final EIS, USACE, 00, VOID -Sabine-Neches Waterway Channel Improvement Project, Proposed Ocean Dredged Material Disposal Site Designation, Southeast Texas and Southwest Louisiana, Wait Period Ends: 10/25/2010, Contact: Janelle Stokes, 409-766-3039.

Revision to FR Notice published 9/24/2010. EIS was filed in error.

Dated: September 28, 2010.
Robert W. Hargrove,
Director, NEPA Compliance Division, Office of Federal Activities.

[FR Doc. 2010-24682 Filed 9-30-10; 8:45 am]

BILLING CODE 6560-50-P